DEPARTMENT OF EDUCATION

[CFDA No.: 84.235N]

Special Demonstration Programs; Notice Inviting Applications for New Awards for Fiscal Year (FY) 2001

Purpose of Program: To provide financial assistance to support projects or programs that expand and improve the provision of rehabilitation and other services for individuals with disabilities, including technical assistance that meets the needs of underserved populations.

For FY 2001 this competition focuses on projects designed to meet the priorities we describe in the PRIORITIES section of this application notice. This competition provides funds for a Technical Assistance Center focusing on Latinos and Hispanics with Disabilities and a Technical Assistance Center focusing on Asian Americans and Pacific Islanders with Disabilities.

Eligible Applicants: State vocational rehabilitation agencies; community rehabilitation programs; Indian tribes or tribal organizations; and public or nonprofit agencies or organizations, including institutions of higher education.

Applications Available: December 21, 2000.

Deadline For Transmittal of Applications: February 20, 2001.

Deadline For Intergovernmental Review: April 21, 2001.

Estimated Available Funds: $1,000,000.

Estimated Range of Awards: $400,000 to $500,000 per year per Center.

Estimated Number of Awards: 2.

Reasonable Accommodations: We will consider, and may fund, requests for additional funding as an addendum to an application to reflect the costs of reasonable accommodations necessary to allow individuals with disabilities to be employed on the project as personnel on project activities.

Note: The Department is not bound by any estimates in this notice.

Project Period: Up to 60 months. The Assistant Secretary believes that a period of at least 36 months is necessary to accomplish the project objectives. The Assistant Secretary will assess, during the third year of the project period, whether there is a continuing need for the project and whether to provide funding beyond 36 months.

Applicable Regulations: (a) The Education Department General Administrative Regulations (EDGAR) in 34 CFR parts 74, 75, 77, 79, 80, 81, 82, 85, 86, 97, and 99; and (b) The regulations for this program in 34 CFR part 373.

Priority

Background

Many individuals with disabilities, including Latinos, Hispanics, Asian Americans, and Pacific Islanders, have difficulty accessing rehabilitation services and employment opportunities due to existing language, cultural, socio-economic, and other barriers. In particular, the unique characteristics of immigrant subpopulations living in urban and rural areas support the need for culturally appropriate technical assistance regarding civil rights, education and employment opportunities, and disability-related services. That technical assistance will assist Latinos and Hispanics with disabilities, Asian Americans and Pacific Islanders with disabilities, and other individuals with disabilities and their families, rehabilitation agencies, local educational agencies, higher education institutions, independent living centers, parent training information centers, and employers to gain access to appropriate services and information in order to improve community integration, independent living, and employment outcomes.

Priorities

Under 34 CFR 75.105(c)(3) and section 303(b)(4)(C) and (5)(B)(vi) of the Rehabilitation Act of 1973, as amended, the Assistant Secretary gives an absolute preference to applications that meet one of the following priorities. The Assistant Secretary funds only applications that meet one of the absolute priorities.

The projects must create a National Technical Assistance Center that would provide culturally appropriate technical assistance to organizations, State vocational rehabilitation agencies, other service agencies, individuals, and families focusing on increasing employment opportunities, vocational, educational, and independent living outcomes for Latinos and Hispanics with disabilities or Asian Americans and Pacific Islanders with disabilities.

Priority 1: Creating a National Technical Assistance Center for Individuals with Disabilities focusing on Latinos and Hispanics with Disabilities.

Priority 2: Creating a National Technical Assistance Center for Individuals with Disabilities Focusing on Asian Americans and Pacific Islanders with Disabilities.

Allowable Activities

Activities that may be supported under this competition include, but are not limited to—

• Providing information to employers and industry, small business administrations, and chambers of commerce;

• Providing culturally and linguistically relevant training on the provisions of the Americans with Disabilities Act, sections 504 and 508 of the Rehabilitation Act of 1973, as amended, the Individuals with Disabilities Education Act (IDEA), and other civil rights legislation focused on Latinos and Hispanics with disabilities, Asian Americans and Pacific Islanders with disabilities, and other individuals with disabilities who wish to use the training.

• Identifying solutions related to the barriers to obtaining employment, educational and independent living opportunities for individuals with disabilities focusing on Latinos and Hispanics with disabilities and Asian Americans and Pacific Islanders with disabilities;

• Providing educational and vocational outreach to Latinos and Hispanics with disabilities, Asian Americans and Pacific Islanders with disabilities, other individuals with disabilities, including migrant and seasonal farmworkers, and their families through key organizations and agencies;

• Assisting organizations, families, higher education, and individuals with disabilities to better understand other issues relevant to these populations, including, but not limited to, housing, transportation, assistive technology, independent living, long-term care, and Federal statutes such as the Workforce Investment Act, the Ticket to Work and Work Incentives Act, and the Individuals with Disabilities Education Act.

Selection Criteria: In evaluating an application for a new grant under this competition, we use selection criteria chosen from the general selection criteria in 34 CFR 75.210 of EDGAR. The selection criteria to be used for this competition will be provided in the application package for this competition.

For Applications Contact: Education Publications Center (ED Pubs), P.O. Box 1398, Jessup, MD 20794-1398. Telephone (toll free): 1-877-433-7827. FAX: (301) 470-1244. If you use a telecommunications device for the deaf (TDD), you may call (toll free): 1-877-576-7734

You may also contact ED Pubs at its Web site: http://www.ed.gov/pubs/edpubs.html

Or you may contact ED Pubs at its e-mail address: edpubs@inet.ed.gov.

If you request an application from ED pubs, be sure to identify this competition as follows: CFDA number 84.235N.

Individuals with disabilities may obtain a copy of the application package in an alternative format by contacting the Grants and Contracts Services Team, U.S. Department of Education, 400 Maryland Avenue, SW., room 3317, Switzer Building, Washington, DC 20202-2550. Telephone: (202) 205-8351. If you use a telecommunications device for the deaf (TDD), you may call the Federal Information Relay Services (FIRS) at 1-800-877-8339. However, the Department is not able to reproduce in an alternative format the standard forms included in the application package.

FOR FURTHER INFORMATION CONTACT: Thomas E. Finch, U.S. Department of Education, 400 Maryland Avenue, SW., room 3314, Switzer Building, Washington, DC. 20202-2650. Telephone: (202) 205-8292. If you use a telecommunications device for the deaf (TDD), you may call the Federal Information Relay Service (FIRS) at 1-800-877-8339.

Individuals with disabilities may obtain this document in an alternative format (e.g., Braille, large print, audiotape, or computer diskette) on request to the contact person listed in the preceding paragraph.

Electronic Access to This Document

You may view this document, as well as all other Department of Education documents published in the Federal Register, in text or Adobe Portable Document Format (PDF) on the Internet at either of the following sites: http://ocfo.ed.gov/fedreg.htm, http://www.ed.gov/news.html.

To use PDF you must have Adobe Acrobat Reader, which is available free at either of the previous sites. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html

Program Authority: 29 U.S.C. 773(b).

Dated: December 8, 2000.
Judith E. Heumann,
Assistant Secretary for Special Education and Rehabilitative Services.

[FR Doc. 00-31809 Filed 12-13-00; 8:45 am]

BILLING CODE 4000-01-P